DEPARTMENT OF HEALTH AND HUMAN SERVICES

Administration for Children and Families

Submission for OMB Review; Comment Request

Title: Responding to Intimate Violence in Relationship Programs (RIViR).

OMB No.: New Collection.

Description: The Administration for Children and Families (ACF), U.S. Department of Health and Human Services (HHS) is proposing a data collection as part of the “Responding to Intimate Violence in Relationship programs” (RIViR) study. This notice addresses testing of intimate partner violence (IPV) and teen dating violence (TDV) screener/protocols, to be conducted with approximately 1,200 participants from approximately six Healthy Marriage and Relationship Education (HMRE) grantees funded by the Office of Family Assistance (OFA).

There is little consensus on how HMRE programs should address IPV or TDV in their programs. To date, no IPV or TDV screening tools have been empirically tested among HMRE program participants. The objective of the proposed data collection is to test and validate IPV and TDV screening instruments among HMRE program participants. Findings from this data collection will be used to develop practical, responsive guidance on IPV and TDV screening and surrounding protocols for HMRE programs.

Data collection will entail testing eight screening instruments: Six closed-ended screening instruments (three for IPV, three for TDV), and two open-ended instruments (one for IPV, one for TDV). Trained HMRE grantee staff at approximately 6 grant programs will implement the four IPV screening tools among approximately 600 adult participants and the four TDV screening tools among approximately 600 youth participants. It is anticipated that each participant will engage in four rounds of data collection, one round for each IPV or TDV instrument, at least two weeks apart. Data collection is expected to occur through Spring 2019.

Respondents: HMRE grantee program participants: 600 youth (approximately ages 14-18) will participate in the TDV screener testing and 600 adults (ages 18 and older) will participate in the IPV screener testing.

Annual Burden Estimates
Activity | Total number of respondents | Annual number of respondents | Number of responses per respondent | Average burden per response (in hours) | Total annual burden hours
IPV Screener 1 | 600 | 300 | 1 | .167 | 50
IPV Screener 2 | 600 | 300 | 1 | .167 | 50
IPV Screener 3 | 600 | 300 | 1 | .25 | 75
TDV Screener 1 | 600 | 300 | 1 | .167 | 50
TDV Screener 2 | 600 | 300 | 1 | .167 | 50
TDV Screener 3 | 600 | 300 | 1 | .25 | 75
Locator section for adults | 600 | 300 | 1 | .1 | 30
Contact information form for parents of youth younger than 18 | 600 | 300 | 1 | .1 | 30
Post screener questions for adults | 600 | 300 | 1 | .1 | 30
Post screener questions for youth | 600 | 300 | 1 | .1 | 30
Participant recruitment | 600 | 300 | 1 | .1 | 30
Administration of data collection protocol and record-keeping | 600 | 300 | 1 | .167 | 50

Estimated Total Annual Burden Hours: 520.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE Certifying Officer.

[FR Doc. 2016-27034 Filed 11-8-16; 8:45 am]

BILLING CODE 4184-73-P